DEPARTMENT OF HEALTH AND HUMAN SERVICES

[Document Identifier: OS-0990-0344; 30-day notice]

Agency Information Collection Request, 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: HavBED Assessment to Prepare for Public Health Emergencies—OMB No. 0990-0344—Reinstatement with change—Office of the Assistant Secretary for Preparedness and Response (ASPR), Office of Preparedness and Emergency Operations (OPEO).

Abstract: The Office of the Secretary (OS) is requesting clearance by the Office of Management and Budget to extend data collection regarding the status of the health care system. ASPR/OPEO received expedited clearance for data collection during the 2009-H1N1 pandemic. Since September 2009 HHS has collected data on bed availability, health care system resource needs such as ventilators and health care system stress such as implementation of surge strategies. These data have proven useful to ASPR in fulfilling its responsibilities for preparedness and response.

Pursuant to section 2811 of the PHS Act, the ASPR serves as the principal advisor to the Secretary on all matters related to Federal public health and medical preparedness and response for public health emergencies. In addition to other tasks, the ASPR coordinates with State, local, and tribal public health officials and healthcare systems to ensure effective integration of Federal public health and medical assets during an emergency. ASPR's National Hospital Preparedness Program (HPP) awards cooperative agreements to each of the 50 states, the Pacific Islands, and US territories (for a total of 62 awardees) to improve surge capacity and enhance community and hospital preparedness for public health emergencies. These 62 awardees are responsible for enhancing the preparedness of the nation's nearly 6000 hospitals. These awards are authorized under section 391C-2 of the Public Health Service (PHS) Act.

For this data collection the situation will dictate how often the data will be collected using the web-based interface known as HAvBED. For a large scale emergency, data will be collected nationally from all 62 HPP awardees to include all 6000 hospitals in HAvBED system. For smaller scale events, data collection will be targeted to individual states or regions. Data may also be gathered during exercises. Notifications for data collection are sent to the affected states through the HPP program staff. The data gathered from the hospitals are reported to the HHS Secretary's Operations Center to inform situational awareness and national preparedness.

Annual Estimated Burden Hours
Type of respondent | Number of respondents | Number of responses/ respondent | Average burden hours per response | Total burden hours
Hospital staff (Training) | 6,000 | 1 | 1 | 6,000
Hospital staff (data collection) | 6,000 | 102 | 1 | 612,000
State/Territory Preparedness staff (training) | 62 | 1 | 1 | 62
State/Territory Preparedness staff (data collection) | 62 | 102 | 3 | 18,972
Total |  |  |  | 31,154

Seleda Perryman,
Office of the Secretary, Paperwork Reduction Act Reports Clearance Officer.

[FR Doc. 2010-11567 Filed 5-13-10; 8:45 am]

BILLING CODE 4150-45-P